DEPARTMENT OF EDUCATION

[Docket No.: ED-2024-SCC-0136]

Agency Information Collection Activities; Submission to the Office of Management and Budget for Review and Approval; Comment Request; 2020/25 Beginning Postsecondary Students (BPS:20/25) Full-Scale Study

AGENCY: National Center for Education Statistics (NCES), Department of Education (ED).

ACTION: Notice.

SUMMARY: In accordance with the Paperwork Reduction Act (PRA) of 1995, the Department is proposing a revision of a currently approved information collection request (ICR).

DATES: Interested persons are invited to submit comments on or before December 5, 2024.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Carrie Clarady, 202-245-6347.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: 2020/25 Beginning Postsecondary Students (BPS:20/25) Full-Scale Study.

OMB Control Number: 1850-0631.

Type of Review: A revision of a currently approved ICR.

Respondents/Affected Public: Individuals and Households.

Total Estimated Number of Annual Responses: 26,947.

Total Estimated Number of Annual Burden Hours: 10,289.

Abstract: The 2020/25 Beginning Postsecondary Students Full-Scale Study (BPS:20/25) is conducted by the National Center for Education Statistics, part of the Institute of Education Sciences, within the Department of Education, and is part of the Beginning Postsecondary Students Longitudinal Study data collection program at https://nces.ed.gov/surveys/bps/. BPS is designed to follow a cohort of students who enroll in postsecondary education for the first time during the same academic year, irrespective of the date of high school completion. The study collects data on students' persistence in and completion of postsecondary education programs; their transition to employment; demographic characteristics; and changes over time in their goals, marital status, income, and debt, among other indicators. Data from BPS are used to help researchers and policymakers better understand how financial aid influences persistence and completion, what percentages of students complete various degree programs, what are the early employment and wage outcomes for certificate and degree attainers, and why students leave school.

The BPS:20/25 field test was completed during the 2023-24 academic year and was designed to test items and procedures for the upcoming full-scale study (see Appendix D of this submission with results of the two experiments embedded in the field test). BPS:20/25 will be a nationally-representative sample of approximately 28,650 students who were first-time beginning students during the 2019-20 academic year. These students will be asked to complete a survey and administrative data will also be collected for them. BPS:20/25 and other NCES postsecondary studies include data linkages with many existing sources of valuable data, listed in appendix B, including the Department of Education's FAFSA Processing System (FPS), National Student Loan Data System (NSLDS), and National Student Clearinghouse (NSC). These NCES studies also obtain data from postsecondary institution student records, information on military service records from Veterans Benefits Administration (VBA), and admissions test scores from ACT and The College Board. Linkages to additional data providers, such as Experian and the National Directory of New Hires (NDNH), may be explored for BPS:20/25.

As part of the clearance process for the previously submitted and approved Field Test package (OMB #1850-0631 v.20), NCES published a notice in the Federal Register allowing first a 60- and then a 30-day public comment period. That submission was designed to adequately justify the need for and overall practical utility of the full study, presenting the overarching plan for all phases of the data collection and providing as much detail about the measures to be used as is available at the time of that submission. The materials for the BPS:20/25 full-scale study are based upon the field test materials. In order to clear the final materials for the BPS:20/25 full-scale study, NCES is publishing a notice in the Federal Register allowing an additional 30-day public comment period on the final details and materials of the BPS:20/25 full-scale study.

Dated: October 31, 2024.
Stephanie Valentine,
PRA Coordinator, Strategic Collections and Clearance, Governance and Strategy Division, Office of Chief Data Officer, Office of Planning, Evaluation and Policy Development.

[FR Doc. 2024-25661 Filed 11-4-24; 8:45 am]

BILLING CODE 4000-01-P